DEPARTMENT OF LABOR

Agency Information Collection Activities; Submission for OMB Review; Comment Request; Department of Labor Events Registration Platform

ACTION: Notice.

SUMMARY: On August 29, 2014, the Department of Labor (DOL) will submit the information collection request (ICR) revision titled, “Department of Labor Events Registration Platform,” to the Office of Management and Budget (OMB) for review and approval for use in accordance with the Paperwork Reduction Act (PRA) of 1995 (44 U.S.C. 3501 et seq.). Public comments on the ICR are invited.

DATES: The OMB will consider all written comments that agency receives on or before September 29, 2014.

ADDRESSES: A copy of this ICR with applicable supporting documentation; including a description of the likely respondents, proposed frequency of response, and estimated total burden may be obtained free of charge from the RegInfo.gov Web site at http://www.reginfo.gov/public/do/PRAViewICR?ref_nbr=201406-1290-001 (this link will only become active on August 30, 2014) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-OS, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the Department of Labor Events Registration Platform (DOLEMP), previously identified as the Vendor Outreach Session (VOS) Information Management System, information collection. More specifically, the DOL periodically requests the public to register to attend a DOL sponsored event. The DOLEMP is a shared service that allows a DOL agency to collect registration information in a way that can be tailored to a particular event. As the information needed to register for specific events may vary, this ICR provides a generic format an agency may use to obtain any required PRA authorization from the OMB. The DOL seeks OMB approval not to submit an individual event for approval when only those questions on an approved template are asked. Under the proposed revision, an agency would also have the ability to omit one or more questions on the template without the DOL submitting an ICR for specific clearance. An ICR would be required, however, under this generic information collection should additional or other information be asked for some specific event. For example, this ICR submission includes a generic request for continued approval of the VOS component of the DOLEMP. This information collection has been classified as a revision, because of the expanded scope of the information collection to cover additional events. The DOL notes that registration requirements for many events may not require PRA clearance, because the information requested is minimal (e.g., information necessary to identify the attendee, address, etc.); however, other events may require the systematic collection of information that goes beyond the PRA exception to the definition of information codified in regulations 5 CFR 1320.3(h)(1).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1290-0002. The current approval is scheduled to expire on August 31, 2014; however, the DOL notes that existing information collection requirements submitted to the OMB receive a month-to-month extension while they undergo review. New requirements would only take effect upon OMB approval. For additional substantive information about this ICR, see the related notice published in the Federal Register on June 6, 2014 (79 FR 32751).

Interested parties are encouraged to send comments to the OMB, Office of Information and Regulatory Affairs at the address shown in the ADDRESSES section within thirty (30) days of publication of this notice in the Federal Register. In order to help ensure appropriate consideration, comments should mention OMB Control Number 1290-0002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL.

Title of Collection: Department of Labor Events Registration Platform.

OMB Control Number: 1290-0002.

Affected Public: Individuals or Households; State, Local, and Tribal Governments; and Private Sector—businesses or other for-profits, farms, and not-for-profit institutions.

Total Estimated Number of Respondents: 2,200.

Total Estimated Number of Responses: 3,200.

Total Estimated Annual Time Burden: 250 hours.

Total Estimated Annual Other Costs Burden: $0.

Dated: August 18, 2014.
Michel Smyth,
Departmental Clearance Officer.

[FR Doc. 2014-19964 Filed 8-21-14; 8:45 am]

BILLING CODE 4510-23-P